NATIONAL ARCHIVES AND RECORDS ADMINISTRATION

36 CFR Part 1253

[NARA-06-0004]

RIN 3095-AB50

NARA Facility Locations and Hours

AGENCY: National Archives and Records Administration (NARA).

ACTION: Final rule.

SUMMARY: NARA is revising its regulations on the locations and hours of NARA facilities to reflect the relocation of two facilities in the past fiscal year. This final rule will affect the public.

DATES: Effective Date: Effective June 20, 2006.

FOR FURTHER INFORMATION CONTACT: Laura McCarthy at 301-837-3023.

SUPPLEMENTARY INFORMATION: The proposed rule was published in the May 12, 2006, Federal Register (71 FR 27653) for a 30-day comment period. Notification of user groups occurred following publication of the proposed rule.

NARA received no comments on the proposed rule and therefore is issuing the final rule with no changes.

This rule is effective upon publication for “good” cause as permitted by Administrative Procedure Act (5 U.S.C. 553(d)(3)). NARA believes that delaying the effective date for 30 days is unnecessary as this rule represents minor technical amendments. Moreover, as the public benefits immediately with correct addresses and hours for the relocated NARA facilities, any delay in the effective date would be contrary to the public interest.

This rule is not a significant regulatory action for the purposes of Executive Order 12866 and has not been reviewed by the Office of Management and Budget. As required by the Regulatory Flexibility Act, I certify that this rule will not have a significant impact on a substantial number of small entities because this rule applies to agencies and individual researchers. This regulation does not have any federalism implications. This rule is not a major rule as defined in 5 U.S.C. Chapter 8, Congressional Review of Agency Rulemaking.

List of Subjects in 36 CFR Part 1253

Archives and records.

For the reasons set forth in the preamble, NARA amends part 1253 of title 36, Code of Federal Regulations, as follows:

PART 1253—LOCATIONS OF RECORDS AND HOURS OF USE

1. The authority citation for part 1253 continues to read as follows:

Authority: 44 U.S.C. 2104(a).

2. Amend § 1253.6 by revising paragraph (d) and (l) to read as follows:

§ 1253.6 Records centers.

* * * * *

(d) NARA—Southeast Region (Atlanta) is located at 4712 Southpark Blvd., Ellenwood, GA 30294. The hours are 7:30 a.m. to 3 p.m., Monday through Friday. The telephone number is 404-736-2820.

* * * * *

(l) NARA—Pacific Region (Riverside) is located at 23123 Cajalco Road, Perris, CA 92570-7298. The hours are 8:45 a.m. to 3 p.m., Monday through Friday for scheduled appointments. The telephone number is 951-956-2000.

* * * * *

Dated: June 14, 2006.
Allen Weinstein,
Archivist of the United States.

[FR Doc. E6-9645 Filed 6-19-06; 8:45 am]

BILLING CODE 7515-01-P